COMMITTEE FOR PURCHASE FROM PEOPLE WHO ARE BLIND OR SEVERELY DISABLED

Agency Information Collection Activities Proposed Information Collection; Comment Request

AGENCY: Committee for Purchase From People Who are Blind or Severely Disabled.

ACTION: Submission for OMB review; comment request.

SUMMARY: The Committee has submitted to the Office of Management and Budget for their review the following collection as required by the Paperwork Reduction Act (44 U.S.C. Chapter 35).

Committee Form 401—Initial Certification—Qualified Nonprofit Agency Serving People Who Are Blind.

Committee Form 402—Initial Certification—Qualified Nonprofit Agency Serving People Who Are Severely Disabled.

DATES: Interested persons are invited to submit comments about the collection on or before October 2, 2005. The agency's 60-day notice informing the public of the intent to renew this form with no changes was published in the Federal Register on July 1, 2005 on page 38097-38098.

ADDRESSES: Comments may be submitted, identified by the title of the information collection activity, to the Office of Information and Regulatory Affairs, Attn: Ms. Katherine Astrich, OMB Desk Officer by any of the following two methods within 30 days from the date of publication in the Federal Register: (1) By fax to: (202) 395-6974, Attention: Ms. Katherine Astrich, OMB Desk Office; and (2) Electronically by e-mail to: Katherine_Astrich@omb.eop.gov.

Requests for copies of documents pertaining to the collection should be addressed to Committee for Purchase From People Who Are Blind or Severely Disabled, Attention: Janet Yandik, Information Management Specialist, Jefferson Plaza 2, Suite 10800, 1421 Jefferson Davis Highway, Arlington, VA 22202-3259 or e-mailed to jyandik@jwod.gov.

SUPPLEMENTARY INFORMATION: The Committee has two initial certification forms, one for nonprofit agencies serving people who are blind and one for nonprofit agencies primarily serving people who have other severe disabilities. The information included on the forms is required to ensure that nonprofit agencies requesting to participate in the Committee's program meet the requirements of the Javits-Wagner-O'Day Act (JWOD), 41 U.S.C. 46-48c. The forms being submitted for OMB approval contain no changes the currently authorized initial certification forms.

Title: Initial Certification—Qualified Nonprofit Agency Serving People Who Are Blind, Committee Form 401.

OMB Number: 3037-0004.

Agency Number: 3037.

Frequency: 1 time.

Affected Public: Nonprofit agencies serving people who are blind seeking to participate in the JWOD program.

Number of Respondents: 5.

Estimated Time per Respondent: 1 hour.

Total Burden Hours: 5.

Total Annual Costs: $0.

Title: Initial Certification—Qualified Nonprofit Agency Serving People Who Are Severely Disabled, Committee Form 402.

OMB Number: 3037-0003.

Agency Number: 3037.

Frequency: 1 time.

Affected Public: Nonprofit agencies serving people who are severely disabled seeking to participate in the JWOD program.

Number of Respondents: 50.

Estimated Time per Respondent: 1 hour.

Total Burden Hours: 50.

Total Annual Costs: $0.

G. John Heyer,
General Counsel.

[FR Doc. E5-4823 Filed 9-1-05; 8:45 am]

BILLING CODE 6353-01-P